DEPARTMENT OF STATE

[Public Notice 6193]

Secretary of State's Advisory Committee on Private International Law: Notice of Study Group Meeting

The Secretary of State's Advisory Committee on Private International Law's (ACPIL) Study Group on The 1996 Hague Convention on Jurisdiction, Applicable Law, Recognition, Enforcement and Co-operation in Respect of Parental Responsibility and Measures for the Protection of Children (“the Protection of Children's Convention” or “the 1996 Convention”) will be holding a public meeting on Monday, April 28, 2008.

This meeting is a follow up to a December 7, 2007 ACPIL Study Group meeting on the same Convention. Whereas the December meeting focused on Chapters I-IV of the Convention (Jurisdiction, Applicable Law, and Recognition and Enforcement), this meeting will focus on Chapters I and V of the Convention (Cooperation). The purpose of the meeting is to explain what the Convention, and in particular Chapters I and V, are intended to accomplish, what obligations they would impose on the United States if ratified, how they would benefit U.S. families, what specific children's issues they addresses, how they could be implemented in the United States, which state and/or federal laws would be affected, and which state and/or federal authorities could provide assistance in cooperating with particular requests under Chapters I and V.

Useful documents to read prior to the meeting include: (1) The text of the Convention and its Explanatory Report, available at http://hcch.e-vision.nl/upload/expl34.pdf; and (2) the analysis of the Convention contained in the Autumn 2005 issue of the Hague Conference's Judges Newsletter, available at http://hcch.e-vision.nl/upload/autumn2005.pdf.

Time: The public meeting will take place at the Department of State, Bureau of Consular Affairs/Office of Overseas Citizens Services offices, located at 2100 Pennsylvania Avenue, NW., (4th floor), Washington, DC 20520. The meeting will be held on Monday, April 28, 2008, from 9:30 a.m.-4 p.m. If you are unable to attend the public meeting and you would like to participate by teleconferencing, please contact Corrin Ferber at Ferbercm@state.gov or 202-736-9172 no later than Monday, April 21, 2008 to receive the conference call in number.

Public Participation: Advisory Committee Study Group meetings are open to the public up to the capacity of the room. Advance registration is requested. Persons wishing to attend should contact Corrin Ferber at Ferbercm@state.gov or 202-736-9172 no later than Monday, April 21, 2008 and provide her with your full name, affiliation and e-mail address. You may be asked to present a government-issued identity card (e.g., driver's license) to gain admission.

If there are individuals or entities that you believe the Department would be interested in hearing from concerning this Convention, please send their contact information to Corrin Ferber.

Dated: April 11, 2008.
Mary Helen Carlson,
Attorney-Adviser, Office of the Legal Adviser, Office of Private International Law, Department of State.

[FR Doc. E8-8593 Filed 4-18-08; 8:45 am]

BILLING CODE 4710-08-P